CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed renewal of the Baseline Questionnaire for Caregivers. This instrument will be administered to caregivers of Senior Companion Program service recipients (respite service and independent living service) to assess their demographic characteristics, psycho-social health and wellbeing, and their physical health. Participation is completely voluntary participation is not considered as a factor in obtaining grant funding support from Senior Corps.

Copies of the information collection request can be obtained by contacting the office listed in the Addresses section of this notice.

DATES: Written comments must be submitted to the individual and office listed in the ADDRESSES section by March 11, 2016.

ADDRESSES: You may submit comments, identified by the title of the information collection activity, by any of the following methods:

(1) By mail sent to: Corporation for National and Community Service, Office of Research and Evaluation; Attention Anthony Nerino, Research Analyst, #10913A; 1201 New York Avenue NW., Washington, DC, 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Anthony Nerino, (202) 606-3913, or by email at anerino@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS is submitting a modification to the statement of work outlining technical assistance to implement a study of caregivers of SCP respite service and SCP independent living services. Additionally, CNCS seeks to assess the long term impact of participation in the Foster Grandparent Program (FGP) and the Senior Companion Program (SCP) on caregivers satisfaction, health related outcomes and psycho-social outcomes.

This project involves a survey of caregivers to individuals who are recipients of independent living services, and caregivers to individuals receiving respite care services. Potential survey respondents will be drawn from a list of registered beneficiaries provided by a sample of SCP grantees. SCP and FGP members will be drawn from a list of registered members provided by a sample of SCP and FGP grantees. Potential interview respondents will include, caregivers SCP respite and independent services. Survey data will be collected using a multi-modal survey methods including phone surveys, paper surveys and on-line surveys.

Quantitative data analysis will include descriptive statistics and inferential analysis of survey responses by respondent characteristics. Analyses will focus on identifying demographic factors of recipients and members, and on self-reported health status and psycho-social factors including self-efficacy, loneliness and depression.

Current Action

This is a new information collection request. CNCS seeks public comment on a new data collection instrument and a set of interview questions developed for this project. The instrument and interview questionnaire has been designed by the contractor for this project and represents an information collection instrument specific to the modified Statement of Work and modified project goals.

Type of Review: New.

Agency: Corporation for National and Community Service.

Title: Baseline Questionnaire for Caregivers.

OMB Number: New.

Agency Number: None.

Affected Public: Caregivers of Senior Corps SCP respite services and independent living services.

Total Respondents: 900.

Frequency: One time.

Average Time per Response: Average time 30 minutes.

Respondent category | Number | Time | Total hours
SCP Caregiver Survey | 900 | 30 minutes | 450

Estimated Total Burden Hours: 450 hours.

Total Burden Cost (capital/startup): None.

Total Burden Cost (operating/maintenance): None.

Comments submitted in response to this notice will be summarized and/or included in the request for Office of Management and Budget approval of the information collection request; they will also become a matter of public record.

Dated: January 4, 2016.
Mikel Herrington,
Acting Director, Senior Corps.

[FR Doc. 2016-00332 Filed 1-8-16; 8:45 am]

BILLING CODE 6050-28-P